DEPARTMENT OF THE INTERIOR

National Park Service

[NPS-WASO-NRNHL-17535; PPWOCRADI0, PCU00RP14.R50000]

National Register of Historic Places; Notification of Pending Nominations and Related Actions

Nominations for the following properties being considered for listing or related actions in the National Register were received by the National Park Service before January 17, 2015. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by February 23, 2015. Before including your address, phone number, email address, or other personal identifying information in your comment, you should be aware that your entire comment—including your personal identifying information—may be made publicly available at any time. While you can ask us in your comment to withhold your personal identifying information from public review, we cannot guarantee that we will be able to do so.

Dated: January 21, 2015.
Kevin Moriarty,
Acting Chief, National Register of Historic Places, National Historic Landmarks Program.

KANSAS

Shawnee County

United States Post Office and Court House, 424 S. Kansas Ave., Topeka, 15000046

MASSACHUSETTS

Berkshire County

Rice, A.H., Silk Mill, 55 Spring St., Pittsfield, 15000047

Suffolk County

Boston Police Station Number One—Traffic Tunnel Administration Building, 128, 150 North & 130-140 Richmond Sts., Boston, 15000048

NEW JERSEY

Hudson County

Hook and Ladder No. 3, 218 Central Ave., Jersey City, 15000049

West Bergen—East Lincoln Park Historic District, Roughly bounded by Bergen, Harrison, West Side, Kensington & Fairmount Aves., Kennedy Blvd. & Montgomery St., Jersey City, 15000050

Morris County

Mount Tabor Historic District, Roughly bounded by Tabor & Dickerson Rds., Simpson & Ridgewood Aves. & Mount Tabor Golf Course, Parsippany-Troy Hills Township, 15000051

OREGON

Marion County

Adams, Louise, House, (Silverton, Oregon, and Its Environs MPS), 401 Main St., Silverton, 15000052

DeGuire—Ludowitzki House, (Silverton, Oregon, and Its Environs MPS), 840 Water St., Silverton, 15000053

Multnomah County

Lewis, C. Hunt and Gertrude McClintock, House, 11645 SW. Military Ln., Portland, 15000054

RHODE ISLAND

Providence County

Standard Paper Box Corporation, 110 Kenyon Ave., Pawtucket, 15000055

WISCONSIN

Adams County

Gunning-Purves Building, 311 Main St., Friendship, 15000056

A request for removal has been received for the following resources:

TEXAS

Garza County

Old Algerita Hotel, S. corner of Main and Ave. I, Post, 75001983

Montgomery County

Arnold-Simonton House, Rankin St., Montgomery, 79002996

[FR Doc. 2015-02367 Filed 2-5-15; 8:45 am]

BILLING CODE 4312-51-P